DEPARTMENT OF ENERGY

Federal Energy Regulatory Commission

[Project No. 11659-002, Alaska]

Gustavus Electric Company; Notice of Intention to Hold Public Meetings on the Draft Environmental Impact Statement for the Falls Creek Hydroelectric Project and Land Exchange

November 13, 2003.

On November 7, 2003, the Draft Environmental Impact Statement (DEIS) for the Falls Creek Hydroelectric Project and Land Exchange was noticed in the Federal Register by the U.S. Environmental Protection Agency. The DEIS was prepared jointly by the Federal Energy Regulatory Commission and the National Park Service. The DEIS evaluates the environmental consequences of issuing a license for the construction and operation of the Falls Creek Hydroelectric Project on the Kahtaheena River (Falls Creek), the exchange of Federal land within Glacier Bay National Park and Preserve with state land, and the removal of land from wilderness designation and the designation of other land as wilderness.

Comments on the DEIS are due by January 6, 2004. All comments should be filed with: Magalie R. Salas, Secretary, Federal Energy Regulatory Commission, 888 First Street, NE., Washington, DC 20426. Comments may be filed electronically via the Internet in lieu of paper. The Commission strongly encourages electronic filings. See 18 CFR 385.2001(a)(1)(iii) and the instructions on the Commission's Web site (http://www.ferc.gov) under the “e-Filing” link.

Commission and National Park Service staff will conduct public meetings to present the DEIS findings, answer questions about the findings, and solicit public comment. The public meetings will be recorded by a court reporter, and all meeting statements (oral or written) will become part of the public record for this proceeding.

The meetings will be held at the following locations:

December 8, 2003: City Hall, Hoonah, Alaska.

December 9, 2003: Gustavus School—Multi-Purpose Room, Gustavus, Alaska.

December 10, 2003: Hammond Room—Centennial Hall, 101 Egan Drive, Juneau, Alaska.

December 11, 2003: Glacier Room—Clarion Suites, 325 W. 8th Avenue, Anchorage, Alaska.

Each meeting will begin at 7 p.m. and end at 9 p.m.

For further information or copies of the DEIS, please contact Bob Easton (FERC) at (202) 502-6045 or Bruce Greenwood (NPS) at (907) 644-3527.

Magalie R. Salas,
Secretary.

[FR Doc. E3-00336 Filed 11-20-03; 8:45 am]

BILLING CODE 6717-01-P